FEDERAL COMMUNICATIONS COMMISSION

Information Collection Being Submitted to the Office of Management and Budget for Review and Approval

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 16, 2014. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Benish Shah, Federal Communications Commission, via the Internet at Benish.Shah@fcc.gov. To submit your PRA comments by email send them to: PRA@fcc.gov.

FOR FURTHER INFORMATION CONTACT: Benish Shah, Office of Managing Director, (202) 418-7866.

SUPPLEMENTARY INFORMATION: The Commission is requesting emergency OMB processing of this information collection and has requested OMB approval by October 30, 2014.

OMB Control Number: 3060-XXXX.

Title: Deployment of Text-to-911.

Form No.: N/A.

Type of Review: New collection.

Respondents: Businesses or other for-profit; not-for-profit institutions; and state, local or tribal governments.

Total Number of Respondents: 3,370 Respondents; 58,012 Responses.

Estimated Time per Response: 1.31 hours.

Frequency of Response: One-time reporting.

Obligation to Respond: Mandatory. Statutory authority for this information collection is contained in 47 U.S.C. 151, 152, 154(i), 154(j), 154(o), 251(e), 303(b), 303(g), 303(r), 316, and 403.

Total Annual Burden Hours: 76,237 hours.

Total Annual Cost: None.

Nature and Extent of Confidentiality: The Commission will work with respondents to ensure that their concerns regarding the confidentiality of any proprietary or business-sensitive information are resolved in a manner consistent with the Commission's rules.

Privacy Act Impact Assessment: This information collection does not affect individuals or households, and therefore a privacy impact assessment is not required.

Needs and Uses: The information collection sought will enable the Commission to implement text-to-911 service pursuant to the Second Report and Order, FCC 14-118, released August 13, 2014. The Second Report and Order adopts new rules to commence the implementation of text-to-911 service with an initial deadline of December 31, 2014 for all covered text providers to be capable of supporting text-to-911 service. The Second Report and Order also provides that covered text providers then have a six-month implementation period—they must begin routing all 911 text messages to a Public Safety Answering Point (PSAP) by June 30, 2015 or within six months of a valid PSAP request for text-to-911 service, whichever is later. To implement these requirements, the Commission seeks to collect information primarily for a database in which PSAPs will voluntarily register that they are technically ready to receive text messages to 911. As PSAPs become text-ready, they may either register in the PSAP database (or, if the database is not yet available, submit a notification to PS Docket Nos. 10-255 and 11-153), or provide other written notification reasonably acceptable to a covered text messaging provider. Either measure taken by the PSAP shall constitute sufficient notification pursuant to the adopted rules in the Second Report and Order. PSAPs and covered text providers may mutually agree to an alternative implementation timeframe (other than six months). Covered text providers must notify the FCC of the dates and terms of the alternate timeframe that they have mutually agreed on with PSAPs within 30 days of the parties' agreement.

Additionally, the rules adopted by the Second Report and Order also include other information collections for third party notifications that need to be effective in order to implement text-to-911, including necessary notifications to consumers, covered text providers, and the Commission. These notifications are essential to ensure that all of the affected parties are aware of the limitations, capabilities, and status of text-to-911 services. Emergency approval of these information collections will enable the Commission to meet objectives to commence the implementation of text-to-911 service as of December 31, 2014 in furtherance of its core mission to ensure the public's safety.

Federal Communications Commission.
Marlene H. Dortch,
Secretary.

[FR Doc. 2014-22020 Filed 9-15-14; 8:45 am]

BILLING CODE 6712-01-P